DEPARTMENT OF STATE

[Public Notice: 12565]

Notice of Public Meeting in Preparation for International Maritime Organization Council 133 Meeting

The Department of State will conduct a public meeting at 11 a.m. on Thursday, November 14, 2024, both in-person at Coast Guard Headquarters in Washington, DC, and via teleconference. The primary purpose of the meeting is to prepare for the 133rd session of the International Maritime Organization's (IMO) Council (C 133) to be held in London, United Kingdom from Monday, November 18, 2024, to Friday, November 22, 2024.

Members of the public may participate up to the capacity of the teleconference phone line, which can handle 500 participants or up to the seating capacity of the room if attending in person. The meeting location will be the United States Coast Guard Headquarters, 5PS Conference Room, and the teleconference line will be provided to those who RSVP. To RSVP, participants should contact the meeting coordinator, LCDR Emily Rowan, by email at Emily.K.Rowan@uscg.mil. LCDR Rowan will provide access information for in-person and virtual attendance.

The agenda items to be considered by the advisory committee at this meeting mirror those to be considered at Council 133, and include:

—Adoption of the agenda

—Report of the Secretary-General on credentials

—Rules of Procedure

—Strategy and Planning

—Resource Management

—Consolidated text of the IMO Convention

—Enhancement of multilingualism

—IMO Member State Audit Scheme

—Enhancement of GISIS

—Report of the Marine Environmental Protection Committee

—Global maritime training institutions

—External relations

—Report on the status of conventions

—Place, date and duration of the next session of the Council (C 134) and items for inclusion in the provisional agendas for the next two sessions of the Council (C 134 and C 135)

—Supplementary agenda items, if any

Please note: the IMO may, on short notice, adjust the C 133 agenda to accommodate the constraints associated with the meeting format. Any changes to the agenda will be reported to those who RSVP.

Those who plan to participate should contact the meeting coordinator, LCDR Emily Rowan, by email at Emily.K.Rowan@uscg.mil, or in writing at 2703 Martin Luther King Jr. Ave. SE, Stop 7509, Washington, DC 20593-7509, by November 7, 2024. Members of the public needing reasonable accommodation should advise the meeting coordinator not later than October 31, 2024. Requests made after that date will be considered but might not be possible to fulfill.

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2024-24275 Filed 10-18-24; 8:45 am]

BILLING CODE 4710-09-P